DEPARTMENT OF TRANSPORTATION

Federal Aviation Administration

Notice of Intent To Rule on Request To Release Airport Property at the Grand Junction Regional Airport, Grand Junction, Colorado

AGENCY: Federal Aviation Administration, (FAA), DOT.

ACTION: Notice of request to release airport property.

SUMMARY: The FAA proposes to rule and invite public comment on the release of a 21.81 acre parcel of land at the Grand Junction Regional Airport.

DATES: Comments are due within 30 days of the date of the publication of this notice in the Federal Register.

ADDRESSES: Emailed comments can be provided to Mr. John Sweeney, Community Planner, Denver Airports District Office, john.sweeney@faa.gov, (303) 342-1263.

FOR FURTHER INFORMATION CONTACT: Ms. Angela Padalecki, Executive Director, Grand Junction Regional Airport, 2828 Walker Field Drive, Grand Junction, CO 81506, apadalecki@gjairport.com, (970) 244-9100; or Mr. John Sweeney, Community Planner, Denver Airports District Office, john.sweeney@faa.gov, (303) 342-1263. Documents reflecting this FAA action may be reviewed at the above locations.

SUPPLEMENTARY INFORMATION: The FAA invites public comment on the request to release property at the Grand Junction Regional Airport under the provisions of 49 U.S.C. 47107(h)(2). The proposal consists of 21.81 acres of land located on the West side of the airport, shown as 27¼ Road on the Airport Layout Plan. The parcel traverses the West side of the airport along the relocated 27¼ Road. The FAA concurs that the parcel is no longer needed for airport purposes. The proposed use of this property is compatible with existing airport operations in accordance with FAA's Policy and Procedures Concerning the Use of Airport Revenue, as published in the Federal Register on February 16, 1999.

Issued in Denver, Colorado, on December 20, 2023.
John P. Bauer,
Manager, Denver Airports District Office.

[FR Doc. 2024-00141 Filed 1-5-24; 8:45 am]

BILLING CODE 4910-13-P